DEPARTMENT OF ENERGY

Office of Energy Efficiency and Renewable Energy

External Peer Review Meeting

AGENCY: Water Power Technologies Office; Office of Energy Efficiency and Renewable Energy; Department of Energy.

ACTION: Notice of external peer review meeting.

SUMMARY: All programs within the U.S. Department of Energy's (DOE) Office of Energy Efficiency and Renewable Energy are required to undertake rigorous, objective peer review of their funded projects on a regular basis in order to ensure and enhance the management, relevance, effectiveness, and productivity of those projects. The Water Power Technologies Office intends to hold an External Peer Review in Arlington, VA, on February 14-16, 2017. An External Peer Review Panel will review current and recently completed projects and provide feedback on technical, scientific, and business merit; the actual or anticipated results; and the productivity and management effectiveness of projects. The review panel will also assess the potential impact of projects on the water power industry and identify additional research initiatives and resources that may prove to be advantageous in the future.

Principal Investigators, expert reviewers, Water Power Technologies Office staff, and contract support staff will be in attendance during the review meeting. The event is open to the public based upon space availability.

DATES: The meeting is open to industry, academia, government, and the general public beginning at 8:30 a.m. on Tuesday, February 14, 2017, and ending on Thursday, February 16, 2017, at 5:00 p.m., based on availability. See pre-registration information below.

ADDRESSES: The External Peer Review will be held at the Sheraton Pentagon City Hotel, 900 S. Orme Street, Arlington, VA 22204. The Water Power Technologies Office Peer Review will be co-located with the Wind Energy Technologies Office Peer Review.

Pre-Registration: To pre-register, please contact Ms. Jenn ZiBerna via email at jziberna@aetherquest.com or via telephone at (571) 297-4018, or visit the meeting registration Web page: https://ww2.eventrebels.com/er/Registration/StepRegInfo.jsp?ActivityID=19344&StepNumber=1. Participants interested in attending should indicate the research area or areas they would like to observe, their name, company name or organization (if applicable), telephone number, and email no later than the close of business on January 30, 2017.

Comments: Comments may be submitted by the following methods:

• Email: Matthew.Grosso@ee.doe.gov. Include “Water Power Peer Review” in the subject line of the message.

• Postal Mail: Matthew Grosso, EE-4WP, U.S. Department of Energy, 1000 Independence Avenue SW., Washington, DC 20585. Due to the potential delays in DOE's receipt and processing of mail sent through the U.S. Postal Service, DOE encourages respondents to submit comments electronically to ensure timely receipt.

SUPPLEMENTARY INFORMATION:

Objectives

The objectives of the meeting are to:

• Review and evaluate the strategy and goals of the Water Power Technologies Office;

• Review and evaluate the progress and accomplishments of the Program's projects funded from FY2014 through FY2016; and

• Foster interactions among the DOE's national laboratories, industry, and academic institutions conducting research and development on behalf of the Office.

Research Areas

The Water Power Technologies Peer Review meeting will review projects sponsored by the Water Power Program in the following research areas:

• Marine Hydrokinetics

○ Environmental Research, Siting, and Resource Assessment

○ Market and Industry Development, Analysis and Data Dissemination

○ Component-level Research and Development

○ System-level Innovation and Design Iterations

○ Demonstrations for Performance Evaluation and Installation, Operations, and Maintenance Improvements

○ Testing Infrastructure and Instrumentation

• Hydropower

○ Growth

○ Optimization

○ Sustainability

Agenda

Presentations from Principal Investigators representing industry, academia, and DOE's national laboratories will have time limits. Depending on the type of project, Principal Investigators will have 20-30 minutes to present. This includes time for question and answer sessions between the Principal Investigators and the expert reviewers.

Public Participation

The event is open to the public based upon space availability. DOE will also accept public comments as for purposes of developing the Water Power Program portfolio, but will not respond individually to comments received. Following the meeting, a summary will be compiled by DOE and posted for public comment.

Information on Services for Individuals With Disabilities

Individuals requiring special accommodations at the meeting should contact Ms. ZiBerna no later than the close of business on January 30, 2017.

Issued in Washington, DC, on January 17, 2017.
James Ahlgrimm,
Acting Director, Water Power Technologies Office, U.S. Department of Energy.

[FR Doc. 2017-01437 Filed 1-19-17; 8:45 am]

BILLING CODE 6450-01-P